DEPARTMENT OF TRANSPORTATION

National Highway Traffic Safety Administration

[Docket No. NHTSA-2008-0167; Notice 2]

Volvo Cars of North America, LLC, Grant of Petition for Decision of Inconsequential Noncompliance

Volvo Cars of North America, LLC (Volvo), has determined that certain model year 2003-2009 multipurpose passenger vehicles (MPV) did not fully comply with paragraphs S4.4.2(a) and 4.4.2(c) of 49 CFR 571.110, Federal Motor Vehicle Safety Standard (FMVSS) No. 110, Tire Selection and Rims for Motor Vehicles With a GVWR of 4,536 Kilograms (10,000 pounds) or Less. Volvo has filed an appropriate report pursuant to 49 CFR Part 573, Defect and Noncompliance Responsibility and Reports.

Pursuant to 49 U.S.C. 30118(d) and 30120(h) and the rule implementing those provisions at 49 CFR Part 556, Volvo has petitioned for an exemption from the notification and remedy requirements of 49 U.S.C. Chapter 301 on the basis that this noncompliance is inconsequential to motor vehicle safety. Notice of receipt of the petition was published, with a 30-day public comment period, on November 17, 2008 in the Federal Register (73 FR 67926). No comments were received.

To view the petition and all supporting documents log onto the Federal Docket Management System (FDMS) Web site at: http://www.regulations.gov/. Then follow the online search instructions to locate docket number “NHTSA-2008-0167.”

For further information on this decision, contact Mr. John Finneran, Office of Vehicle Safety Compliance, the National Highway Traffic Safety Administration (NHTSA), telephone (202) 366-0645, facsimile (202) 366-7097.

Affected are approximately 201,914 model years 2003-2009 XC90 MPV manufactured from August 5, 2002 through March 28, 2008, and 14,147 model years 2008-2009 XC70 MPV manufactured from May 21, 2007 through March 28, 2008. Paragraphs S4.4.2(a) and 4.4.2(c) of FMVSS No. 110 require in pertinent part:

S4.4.2. Rim markings for vehicles other than passenger cars. Each rim or, at the option of the manufacturer in the case of a single-piece wheel, each wheel disc shall be marked with the information listed in S4.4.2(a) through (e), in lettering not less than 3 millimeters in height, impressed to a depth, or at the option of the manufacturer, embossed to a height of not less than 0.125 millimeters. The information listed in S4.4.2(a) through (c) shall appear on the outward side. In the case of rims of multi-piece construction, the information listed in S4.4.2(a) through (e) shall appear on the rim base and the information listed in S4.4.2(b) and (d) shall also appear on each other part of the rim.

(a) A designation that indicates the source of the rim's published nominal dimensions, as follows:

(1) “T” indicates The Tire and Rim Association.

(2) “E” indicates The European Tyre and Rim Technical Organization.

(3) “J” indicates Japan Automobile Tire Manufacturers Association, Inc.

(4) “L” indicates ABPA (Brazil), a.k.a. Associacao Latino Americana De Pneus E Aros.

(5) “F” indicates Tire and Rim Engineering Data Committee of South Africa (Tredco).

(6) “S” indicates Scandinavian Tire and Rim Organization (STRO).

(7) “A” indicates The Tyre and Rim Association of Australia.

(8) “I” indicates Indian Tyre Technical Advisory Committee (ITTAC).

(9) “R” indicates Argentine Institute of Rationalization of Materials, a.k.a. Instituto Argentino de Racionalizacion de Materiales, (ARAM).

(10) “N” indicates an independent listing pursuant to S4.1 of Sec. 571.139 or S5.1(a) of Sec. 571.119 * * *

(c) The symbol DOT, constituting a certification by the manufacturer of the rim that the rim complies with all applicable Federal motor vehicle safety standards.

In its petition, Volvo described the noncompliance as the omission of two markings from the subject vehicles' wheels, the certification symbol (“DOT”) and the designation symbol (in this case “E”) which indicates the source of the rims' published nominal dimensions.

Volvo argues that this noncompliance is inconsequential to motor vehicle safety for the following reasons: apart from S4.4.2(a) and S4.4.2(c), the subject rims contain all information required within FMVSS No. 110; the tires and rims of the affected vehicles are properly matched, and are appropriate for the load-carrying characteristics of these vehicles; the information on the wheel provides users with the information necessary to ensure that the wheel is mounted on the appropriate vehicle; and the omission of the “DOT-E” stamping will not result in misapplication of the wheels. Also, the rim markings and vehicle labeling, which are used to identify the correct replacement rim, both contain the correct and complete size of rims installed on the subject vehicles.

Volvo stated that it is unaware of any accidents or injuries or customer complaints related to the lack of these markings and that the missing markings do not affect the performance of the wheels or the tire and wheel assemblies.

In addition, Volvo states that it has corrected the problem that caused these errors so that they will not be repeated in future production and that it believes that because the noncompliance is inconsequential to motor vehicle safety that no corrective action is warranted.

NHTSA Decision

The purpose of the labeling requirements in paragraphs S4.4.2(a) and S4.4.2(c) of FMVSS No. 110 is to provide safe operation of vehicles by ensuring that vehicles are equipped with rims of appropriate size and type designation mounted with compatible tires of appropriate size and load rating.

The purpose of the “DOT” marking is to certify that the rims comply with all applicable standards, the failure to mark rims with a DOT symbol is considered a violation of 49 U.S.C. 30115, Certification, which does not require notification or remedy. Consequently, that portion of Volvo's inconsequentiality petition is moot.

While NHTSA strongly encourages manufacturers to include the designation symbol required by S4.4.2(a), its omission does not prevent the proper matching of tires and rims in this unique situation because sufficient information about rim size is available from other markings on the rims as well as information available from the certification label required by 49 CFR Part 567 and the vehicle placard (tire information label) required by FMVSS No. 110 that are present on the affected vehicles. In addition, the omitted marking does not affect the ability to identify the rims in the event of recall and is not likely to have any affect on motor vehicle safety.

In consideration of the foregoing, NHTSA has decided that Volvo has met its burden of persuasion that the failure to provide the designation symbol, as required by paragraph S4.4.2(a) of FMVSS No. 110, is inconsequential to motor vehicle safety. Accordingly, Volvo's application is granted, and it is exempted from providing the notification of noncompliance that is required by 49 U.S.C. 30118, and from remedying the noncompliance, as required by 49 U.S.C. 30120.

Authority: 49 U.S.C. 30118, 30120; delegations of authority at 49 CFR 1.50 and 501.8 otherwise required by the subject noncompliance.

Issued on: December 23, 2009.
Claude Harris,
Director, Office of Vehicle Safety Compliance.

[FR Doc. E9-31079 Filed 12-30-09; 8:45 am]

BILLING CODE 4910-59-P